DEPARTMENT OF TRANSPORTATION

Federal Aviation Administration

14 CFR Part 39

[Docket No. FAA-2014-0587; Directorate Identifier 2013-NM-219-AD; Amendment 39-18059; AD 2014-26-08]

RIN 2120-AA64

Airworthiness Directives; Airbus Airplanes

AGENCY: Federal Aviation Administration (FAA), Department of Transportation (DOT).

ACTION: Final rule.

SUMMARY: We are superseding Airworthiness Directive (AD) 2011-13-09 for all Airbus Model A330-200, -200F, and -300 series airplanes. AD 2011-13-09 required revising the maintenance program to incorporate new limitations and maintenance tasks for certain certification management requirements (CMRs). This new AD requires revising the maintenance or inspection program to incorporate new maintenance requirements and airworthiness limitations. This AD was prompted by a determination that more restrictive maintenance requirements and airworthiness limitations are necessary. We are issuing this AD to prevent safety-significant latent failures that would, in combination with one or more other specific failures or events, result in a hazardous or catastrophic failure condition.

DATES: This AD becomes effective March 2, 2015.

The Director of the Federal Register approved the incorporation by reference of a certain publication listed in this AD as of March 2, 2015.

The Director of the Federal Register approved the incorporation by reference of a certain other publication listed in this AD as of August 1, 2011 (76 FR 37255, June 27, 2011).

ADDRESSES: You may examine the AD docket on the Internet at http://www.regulations.gov/#!docketDetail;D=FAA-2014-0587; or in person at the Docket Management Facility, U.S. Department of Transportation, Docket Operations, M-30, West Building Ground Floor, Room W12-140, 1200 New Jersey Avenue SE., Washington, DC.

For service information identified in this AD, contact Airbus SAS, Airworthiness Office—EAL, 1 Rond Point Maurice Bellonte, 31707 Blagnac Cedex, France; telephone +33 5 61 93 36 96; fax +33 5 61 93 45 80; email airworthiness.A330@airbus.com; Internet http://www.airbus.com. You may view this referenced service information at the FAA, Transport Airplane Directorate, 1601 Lind Avenue SW., Renton, WA. For information on the availability of this material at the FAA, call 425-227-1221.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 to supersede AD 2011-13-09, Amendment 39-16732 (76 FR 37255, June 27, 2011). AD 2011-13-09 applied to all Airbus Model A330-200, -200F, and -300 series airplanes. The NPRM published in the Federal Register on August 26, 2014 (79 FR 50869).

The European Aviation Safety Agency (EASA), which is the Technical Agent for the Member States of the European Community, has issued EASA Airworthiness Directive 2013-0245, dated October 2, 2013 (referred to after this as the Mandatory Continuing Airworthiness Information, or “the MCAI”), to correct an unsafe condition for all Airbus Model A330-200, -200F, and -300 series airplanes. The MCAI states:

The airworthiness limitations are currently distributed in the Airbus A330 Airworthiness Limitations Section (ALS).

The mandatory instructions and airworthiness limitations applicable to the Certification Maintenance Requirements (CMR) are specified in Airbus A330 ALS Part 3, which is approved by the European Aviation Safety Agency (EASA).

The revision 04 of Airbus A330 ALS Part 3 introduces more restrictive maintenance requirements and/or airworthiness limitations. Failure to comply with this revision constitutes an unsafe condition.

For the reason described above, this new AD retains the requirements of EASA AD 2010-0264 [(http://ad.easa.europa.eu/blob/easa_ad_2010_0264.pdf)], which is superseded, and requires the implementation of the maintenance requirements as specified in Airbus A330 ALS Part 3 revision 04.

You may examine the MCAI in the AD docket on the Internet at http://www.regulations.gov/#!documentDetail;D=FAA-2014-0587-0002.

Comments

We gave the public the opportunity to participate in developing this AD. We received no comments on the NPRM (79 FR 50869, August 26, 2014) or on the determination of the cost to the public.

Conclusion

We reviewed the relevant data and determined that air safety and the public interest require adopting this AD as proposed, with minor editorial changes. We have determined that these minor changes:

• Are consistent with the intent that was proposed in the NPRM (79 FR 50869, August 26, 2014) for correcting the unsafe condition; and

• Do not add any additional burden upon the public than was already proposed in the NPRM (79 FR 50869, August 26, 2014).

Costs of Compliance

We estimate that this AD affects 76 airplanes of U.S. registry.

The actions required by AD 2011-13-09, Amendment 39-16732 (76 FR 37255, June 27, 2011), and retained in this AD take about 1 work-hour per product, at an average labor rate of $85 per work-hour. Based on these figures, the estimated cost of the actions that were required by AD 2011-13-09 is $85 per product.

We also estimate that it will take about 1 work-hour per product to comply with the new basic requirements of this AD. The average labor rate is $85 per work-hour. Based on these figures, we estimate the cost of this AD on U.S. operators to be $6,460, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0587; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2011-13-09, Amendment 39-16732 (76 FR 37255, June 27, 2011), and adding the following new AD:

2014-26-08 Airbus: Amendment 39-18059. Docket No. FAA-2014-0587; Directorate Identifier 2013-NM-219-AD.

(a) Effective Date

This AD becomes effective March 2, 2015.

(b) Affected ADs

This AD replaces AD 2011-13-09, Amendment 39-16732 (76 FR 37255, June 27, 2011).

(c) Applicability

This AD applies to all Airbus Model A330-201, -202, -203, -223, -223F -243, -243F, -301, -302, -303, -321, -322, -323, -341, -342, and -343 airplanes, certificated in any category, all manufacturer serial numbers.

(d) Subject

Air Transport Association (ATA) of America Code 05, Periodic inspections.

(e) Reason

This AD was prompted by a determination that more restrictive maintenance requirements and airworthiness limitations are necessary. We are issuing this AD to prevent safety-significant latent failures that would, in combination with one or more other specific failures or events, result in a hazardous or catastrophic failure condition.

(f) Compliance

Comply with this AD within the compliance times specified, unless already done.

(g) Retained Revision of the Maintenance Program

This paragraph restates the requirements of paragraph (g) of AD 2011-13-09, Amendment 39-16732 (76 FR 37255, June 27, 2011). Within 90 days after August 1, 2011 (the effective date of AD 2011-13-09): Revise the maintenance program, which ensures the continuing airworthiness of each operated airplane, by incorporating Airbus A330 ALS, Part 3—Certification Maintenance Requirements, Revision 03, dated July 29, 2010. Within the times specified in the Airbus A330 ALS, Part 3—Certification Maintenance Requirements, Revision 03, dated July 29, 2010, comply with all applicable maintenance requirements and associated airworthiness limitations included in Airbus A330 ALS, Part 3—Certification Maintenance Requirements, Revision 03, dated July 29, 2010, except as provided by paragraphs (h) and (i) of this AD.

(h) Retained Exceptions to the Certification Maintenance Requirements (CMR) Tasks

This paragraph restates the requirements of paragraph (h) of AD 2011-13-09, Amendment 39-16732 (76 FR 37255, June 27, 2011). At the latest of the times specified in paragraph (h)(1), (h)(2), or (h)(3) of this AD: Do the first accomplishment of Airbus A330 CMR Task 213100-00001-2-C, Pressure Control Monitoring, of Airbus A330 ALS, Part 3—Certification Maintenance Requirements, Revision 03, dated July 29, 2010.

(1) Before the accumulation of 48,000 total flight hours.

(2) Within 48,000 flight hours after the most recent accomplishment of Airbus A330 Maintenance Review Board Report (MRBR) Task 21.31.00/05.

(3) Within 3 months after August 1, 2011 (the effective date of AD 2011-13-09, Amendment 39-16732 (76 FR 37255, June 27, 2011).

(i) Retained Exceptions to the CMR Tasks

This paragraph restates the requirements of paragraph (i) of AD 2011-13-09, Amendment 39-16732 (76 FR 37255, June 27, 2011). At the latest of the times specified in paragraph (i)(1), (i)(2), or (i)(3) of this AD: Do the first accomplishment of Airbus A330 CMR Tasks 242000-00005-1-C, AC Generation; 243000-00001-1-C, DC Generation; and 243000-00002-1-C, DC Generation; of Airbus A330 ALS, Part 3—Certification Maintenance Requirements, Revision 03, dated July 29, 2010.

(1) Before the accumulation of 12,000 total flight hours.

(2) Within 12,000 flight hours after the most recent accomplishment of Airbus A330 MRBR Task 24.20.00/17, 24.30.00/04, or 24.30.00/05 respectively.

(3) Within 3 months after August 1, 2011 (the effective date of AD 2011-13-09, Amendment 39-16732 (76 FR 37255, June 27, 2011).

(j) Retained Limitation of Alternative Inspections or Intervals

This paragraph restates the limitation specified in paragraph (j) of AD 2011-13-09, Amendment 39-16732 (76 FR 37255, June 27, 2011). After accomplishing the action required by paragraph (g) of this AD, no alternative inspections or inspection intervals may be used, other than those specified in Airbus A330 ALS, Part 3—Certification Maintenance Requirements, Revision 03, dated July 29, 2010, unless the inspections or intervals are approved as an alternative method of compliance (AMOC) in accordance with the procedures specified in paragraph (m) of this AD.

(k) New Requirements of This AD: Revise the Maintenance or Inspection Program

(1) Within 90 days after the effective date of this AD: Revise the maintenance or inspection program, as applicable, to incorporate Airbus A330 Airworthiness Limitations Section ALS Part 3—Certification Maintenance Requirements, Revision 04, dated August 27, 2013. Within the applicable compliance time defined in the “Record of Revisions” section of Airbus A330 Airworthiness Limitations Section ALS Part 3—Certification Maintenance Requirements, Revision 04, dated August 27, 2013, except as provided by paragraph (k)(2) of this AD, accomplish all applicable maintenance tasks. Accomplishing these actions terminates the requirements of paragraphs (g), (h), (i), and (j) of this AD.

(2) Where paragraph 3 of the “Record of Revisions” section of Airbus A330 Airworthiness Limitations Section ALS Part 3—Certification Maintenance Requirements, Revision 04, dated August 27, 2013, specifies accomplishing the actions “from 27 August 2013,” this AD requires compliance within the specified compliance time after the effective date of this AD.

(l) No Alternative Inspections or Intervals

After accomplishing the action required by paragraph (k)(1) of this AD, no alternative inspections or inspection intervals may be used, other than those specified in Airbus A330 Airworthiness Limitations Section ALS Part 3—Certification Maintenance Requirements, Revision 04, dated August 27, 2013, except as provided by paragraph (k)(2) of this AD, unless the inspections or intervals are approved as an AMOC in accordance with the procedures specified in paragraph (m) of this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425)227-1138; fax 425 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(n) Related Information

Refer to Mandatory Continuing Airworthiness Information (MCAI) EASA Airworthiness Directive 2013-0245, dated October 2, 2013, for related information. You may examine the MCAI in the AD docket on the Internet at http://www.regulations.gov/#!documentDetail;D=FAA-2014-0587-0002.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 2, 2015.

(i) Airbus A330 Airworthiness Limitations Section ALS Part 3—Certification Maintenance Requirements, Revision 04, dated August 27, 2013. The revision level of this document is identified on only the title page and in the Record of Revisions. The revision date is not identified on the title page of this document.

(ii) Reserved.

(4) The following service information was approved for IBR on August 1, 2011 (76 FR 37255, June 27, 2011).

(i) Airbus A330 ALS Part 3—Certification Maintenance Requirements, Revision 03, dated July 29, 2010. The revision level of this document is identified on only the title page and in the Record of Revisions. The revision date is not identified on the title page of this document.

(ii) Reserved.

(5) For service information identified in this AD, contact Airbus SAS, Airworthiness Office—EAL, 1 Rond Point Maurice Bellonte, 31707 Blagnac Cedex, France; telephone +33 5 61 93 36 96; fax +33 5 61 93 45 80; email airworthiness.A330@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on December 19, 2014.
Michael Kaszycki,
Acting Manager, Transport Airplane Directorate, Aircraft Certification Service.

[FR Doc. 2014-30918 Filed 1-23-15; 8:45 am]

BILLING CODE 4910-13-P